DEPARTMENT OF DEFENSE

Department of the Army

Preparation of Environmental Impact Statement (EIS) for Military Training Activities at Makua Military Reservation, Oahu, Hawaii

AGENCY: Department of the Army, DoD.

ACTION: Notice of intent.

SUMMARY: The Army proposed to resume consistent military training activities at Makua Military Reservation (MMR), Oahu, Hawaii, to provide for company level, modified live-fire exercises. In accordance with the Settlement Agreement and Stipulated Order between Malama Makua and the United States Department of Defense, filed 4 October 2001 (the “Settlement Agreement”), the Army will conduct a limited number of live-fire training exercises during the term specified within for the preparation of the subject EIS. The Army needs to conduct a minimum of 18 company-level, combined arms, live-fire exercises per year. Other military components that have used Makua in the past include the Marine Corps, Army Reserves, and the Hawaii Army National Guard, which further increases the total number of required company combined-arms live-fire exercises (CALFEXs) per year. Conducting the required number of company CALFEXs is critical to maintaining the readiness of all military units assigned or stationed in Hawaii. Training at the company level is one of the key building blocks in the Army's progressive training doctrine where smaller units first train as smaller units and then train collectively as part of a larger unit. The training that a new infantry company commander receives during a company-level CALFEX is invaluable in teaching him the skills required to coordinate the combined arms support provided by helicopter, artillery, mortar, and combat engineer support teams when attacking an objective. These communication and coordination skills are essential later when several companies join together and train/fight as a battalion under the control of a battalion commander. The EIS will address, among other things, the potential direct, indirect and cumulative environmental impacts associated with the proposal to continue military training activities at MMR. The EIS development process will be conducted in accordance with the aforementioned Settlement Agreement and Stipulated Order.

ADDRESSES: Written comments may be forwarded to Mr. Calvin K. Mashita, U.S. Army Corps of Engineers, Honolulu Engineer District, Programs and Project Management Division, ATTN: CEPOH-PP-E (Mashita), Building 230, Fort Shafter, Hawaii 96858-5440.

FOR FURTHER INFORMATION CONTACT: Makua training activities: Colonel William E. Ryan III, (808) 656-1289, fax (808) 656-1259; email William.ryaniii@usace.army.mil or by writing to Director of Public Works, U.S. Army Garrison Hawaii (USAG-HI), Schofield Barracks, Hawaii 96857-5013.

EIS information: Mr. Calvin K. Mashita, (808) 438-8417; fax (808) 438-8865; email calvin.k.mashita@poh01.usace.army.mil or by writing to Mr. Mashita at the above address.

SUPPLEMENTARY INFORMATION: Proposed alternatives to be considered may include, but not be limited to, the following:

(1) Alternative 1: Modified Live-Fire Training at Makua Military Reservation (Proposed Action). The Army would conduct company CALFEXs at MMR but with certain restrictions. In particular, the Army would eliminate the use of TOW missiles, incendiary munitions, and tracers. Under this alternative, the Army will not be limited to the current number of CALFEXs specified in the Settlement Agreement.

(2) Alternative 2: No action. The Army will not conduct live-fire training exercises at MMR, except for the limited number of modified CALFEXs authorized by the Settlement Agreement.

(3) Alternative 3: Conduct CALFEX Training at an Alternate Site. Personnel and equipment required for CALFEX Training would be transported to one of the following alternate sites:

(a) Alternative 3A: Pohakuloa Training Area (PTA) on the Big Island of Hawaii.

(b) Alternative 3B: Continental United States (CONUS).

(c) Alternative 3C: A replacement training facility at another Army installation on Oahu. The Army would construct another facility on Oahu that could accommodate the company CALFEXs.

(4) Alternative 4: Return to Training Less Restrictive Than the Proposed Action. The Army would train with less restrictions on the types of weapon systems and the numbers of training exercises. For example, the Army would resume the use of tracer ammunition.

(5) Alternative 5: Conduct Non-Live Fire Training at MMR. The Army would conduct training exercises at MMR but without any live firing of weapons or devises otherwise of an incendiary nature.

Scoping Process: Federal, state and local agencies, and the public are invited to participate in the scoping process for the completion of this EIS. The scoping process will help identify potential impacts and key issues to be analyzed in the EIS. Individuals or organizations wishing to participate in the scoping process are invited to participate in a scoping meeting to be held in the Waianae District, on the island of Oahu. Notification of the time and location for the scoping meeting will be published in local newspapers. Additionally, written comments on the scope of analysis are invited and will be accepted within 15 days after the scoping meeting.

Dated: March 15, 2002.
Raymond J. Fatz,
Deputy Assistant Secretary of the Army, (Environment, Safety and Occupational Health) OASA(I&E).

[FR Doc. 02-6687 Filed 3-19-02; 8:45 am]

BILLING CODE 3710-08-M